UNITED STATES INSTITUTE OF PEACE

Notice of Meeting

Date/Time: Thursday, September 18, 2003; 9:30 a.m.-5:30 p.m.

Location: 1200 17th Street, NW., Suite 200, Washington, DC 20036-3011.

Status: Open Session—Portions may be closed pursuant to Subsection (c) of Section 552(b) of Title 5, United States Code, as provided in subsection 1706(h)(3) of the United States Institute of Peace Act, Public Law 98-525.

Agenda: September 2003 Board Meeting; Approval of Minutes of the One Hundred Tenth Meeting (June 19-20, 2003) of the Board of Directors; Chairman's Report; President's Report; Committee Reports; Fiscal Years 2004 and 2005 Budget Review; Approval of 2003 Unsolicited and Solicited Grant; Other General Issues.

Contact: Mr. John Brinkley, Director, Office of Public Outreach, Telephone: (202) 457-1700.

Dated: August 19, 2003.
Harriet Hentges,
Executive Vice President, United States Institute of Peace.

[FR Doc. 03-21542 Filed 8-19-03; 11:25 am]

BILLING CODE 6820-AR-M